DEPARTMENT OF TRANSPORTATION

Surface Transportation Board

[Docket No. AB 1068 (Sub-No. 2X); Docket No. AB 1070 (Sub-No. 2X)]

Missouri Central Railroad Company—Discontinuance of Trackage Rights Exemption—in Cass and Jackson Counties, MO; Central Midland Railway Company—Discontinuance of Trackage Rights Exemption—in Cass and Jackson Counties, MO

Missouri Central Railroad Company (MCRR) and Central Midland Railway Company (CMR) jointly filed a verified notice of exemption under 49 CFR part 1152 subpart F—Exempt Abandonments and Discontinuances of Service to discontinue trackage rights over a rail line owned by the Union Pacific Railroad Company (UP) between Pleasant Hill, Mo. (milepost 263.5), and Leeds Junction, Mo. (milepost 288.3) (the Line). The Line traverses United States Postal Service Zip Codes 64080, 64034, 64082, 64081, 64138, 64133, and 64129. This notice replaces both a Notice of Exemption filed by MCRR on October 17, 2013, and an Amended Notice of Exemption filed by MCRR on October 30, 2013, in Docket No. AB 1068 (Sub-No. 2X).¹

¹ MCRR obtained trackage rights over the Line as part of the transaction involved in Missouri Central Railroad—Acquisition & Operation Exemption—Lines of Union Pacific Railroad, FD 33508 (STB served Jan. 27, 1998). CMR obtained rights to the Line when it filed a notice of operation exemption in Central Midland Railway—Operation Exemption—Lines of Missouri Central Railroad, FD 33988 (STB served Jan. 29, 2001). Neither MCRR nor CMR has ever utilized these trackage rights. Upon discontinuance of service by MCRR and CMR over the Line, UP will continue to be a common carrier authorized to operate on the Line.

MCRR and CMR have certified that: (1) MCRR and CMR have not moved any local traffic over the Line for at least two years; (2) they have not moved any overhead traffic over the Line for at least two years, and that overhead traffic, if there were any, could be rerouted over other lines; (3) no formal complaint filed by a user of rail service on the Line (or by a state or local government entity acting on behalf of such user) regarding cessation of service over the Line either is pending before the Surface Transportation Board or before any U.S. District Court or has been decided in favor of the complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on January 7, 2014, unless stayed pending reconsideration. Petitions to stay that do not involve environmental issues and formal expressions of intent to file an OFA to subsidize continued rail service under 49 CFR 1152.27(c)(2) ² must be filed by December 16, 2013.³ Petitions to reopen must be filed by December 26, 2013, with the Surface Transportation Board, 395 E Street SW., Washington, DC 20423-0001.

² Because this is a discontinuance and not an abandonment, only OFAs to subsidize continued rail service are permitted. Each OFA must be accompanied by the filing fee, which currently is set at $1,600. See 49 CFR 1002.2(f)(25).

³ Because this is a discontinuance proceeding and not an abandonment, trail use/rail banking and public use conditions are not appropriate. Likewise, no environmental or historic documentation is required here under 49 CFR. 1105.6(c) and 49 CFR 1105.8(b), respectively.

A copy of any petition filed with the Board should be sent to MCRR's representative: Sandra L. Brown, Thompson Hine LLP, 1919 M St NW., Suite 700, Washington, DC 20036. A copy of any petition filed with the Board also should be sent to CMR's representative: Lon Van Gemert, Central Railway Company, c/o Progressive Rail Incorporated, 21778 Highview Avenue, Lakeville, MN 55044.

If the notice contains false or misleading information, the exemption is void ab initio.

Board decisions and notices are available on our Web site at www.stb.dot.gov.

Decided: December 3, 2013.
By the Board, Rachel D. Campbell, Director, Office of Proceedings.
Raina S. White,
Clearance Clerk.

[FR Doc. 2013-29187 Filed 12-5-13; 8:45 am]

BILLING CODE 4915-01-P